DEPARTMENT OF HOMELAND SECURITY

U.S. Immigration and Customs Enforcement

[Docket No. ICEB-2015-0004]

Advisory Committee on Family Residential Centers Meeting

AGENCY: ICE, DHS.

ACTION: Notice of Federal Advisory Committee Meeting.

SUMMARY: The U.S. Immigration and Customs Enforcement (ICE) Advisory Committee on Family Residential Centers (ACFRC) will hold its inaugural meeting in Washington, DC to discuss specific challenges within ICE family residential centers and areas of focus for its initial work. This meeting will be open to the public. Individuals who wish to attend the meeting in person are required to register online at www.ice.gov/acfrc by December 7, 2015, to allow for security screening. Due to limited seating, the public portion of this meeting may be attended via teleconference.

DATES: The Advisory Committee on Family Residential Centers will meet on Monday, December 14, 2015, from 9:00 a.m. to 3:00 p.m. Please note that these meetings may conclude early if the Committee has completed all business.

ADDRESSES: The meeting will be held in the Julie Myers Conference Center at ICE Headquarters, 500 12th St. SW., Washington, DC 20536.

For information on facilities, services for individuals with disabilities, or to request special assistance at the meeting, contact Mr. John Amaya, Designated Federal Officer, at ICE_ACFRC@ice.dhs.gov.

FOR FURTHER INFORMATION CONTACT: Mr. John Amaya, Designated Federal Officer for the Advisory Committee on Family Residential Centers, at ICE_ACFRC@ice.dhs.gov.

SUPPLEMENTARY INFORMATION: Notice of this meeting is given under the Federal Advisory Committee Act, (title 5, United States Code Appendix). Written statements may be submitted to the ACFRC Designated Federal Officer (DFO) (see FOR FURTHER INFORMATION CONTACT). Statements should be no longer than two type-written pages and address the following details: The issue, discussion, and recommended course of action. Additional information, including the agenda, electronic registration, and teleconference details are available on the ACFRC Web site at www.ice.gov/acfrc.

Meeting Agenda

The agenda for the Advisory Committee on Family Residential Centers meeting is as follows:

Monday, December 14, 2015

(1) Ethics Training

(2) FACA 101

(3) Welcome and Opening Remarks

(4) Official Swearing-in of Members

(5) Meeting Norms and Overview of Agenda

(6) Role of the Advisory Committee

(7) American Immigration Lawyers Association Presentation: Concerns & Challenges at Family Residential Centers

(8) ICE State of Play

(9) Overview of Committee Norms and Approach for Developing Consensus Recommendations

(10) Public Comment

(11) Closing Remarks

(12) Adjourn

The meeting agenda and all meeting documentation will be made available online at: www.ice.gov/acfrc. Alternatively, you may contact Mr. John Amaya as noted in the FOR FURTHER INFORMATION CONTACT section above.

A public oral comment period will be held at the end of the day. Speakers are requested to limit their comments to 2 minutes. Please note that the public comment period may end before the time indicated, following the last call for comments.

Dated: November 16, 2015.
Margaret Stubbs,
Regulatory Coordinator, U.S. Immigration and Customs Enforcement.

[FR Doc. 2015-29534 Filed 11-18-15; 8:45 am]

BILLING CODE 9110-28-P